DEPARTMENT OF HEALTH AND HUMAN SERVICES

Administration for Children and Families

Submission for Office of Management and Budget Review; Serious Medical Procedure Request (SMR) Form (Office of Management and Budget #: 0970-0561)

AGENCY: Office of Refugee Resettlement, Administration for Children and Families, U.S. Department of Health and Human Services.

ACTION: Request for public comments.

SUMMARY: The Administration for Children and Families' (ACF) Office of Refugee Resettlement is requesting a 3-year extension of the Serious Medical Procedure Request (SMR) Form (Office of Management and Budget (OMB) #0970-0561, expiration February 29, 2024). Revisions are proposed to the currently approved form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: ACF's ORR places unaccompanied children in their custody in care provider programs until unification with a qualified sponsor. Care provider programs are required to provide children with a range of services including medical, dental, and mental healthcare. Children identified as having a serious medical or dental condition may require a procedure while in ORR custody to maintain and promote their health and wellbeing. Procedures requiring general anesthesia, surgeries, and invasive diagnostic procedures (e.g., cardiac catheterization, invasive biopsy, amniocentesis) require advance ORR approval. Before ORR can approve, data must be collected on the SMR form and submitted to ORR by the care provider program (e.g., care provider program's contact information, child demographics, authorized consenter, unification status) and the lead surgeon (e.g., reason for the procedure, potential risks/complications/adverse outcomes if the procedure is not performed, timing, recovery timeframe, planned follow-up procedures, hospital points of contact). ORR will waive the completion of the SMR form if it is deemed to be in the best interest of the child (e.g., during a hospitalization or emergency department visit, related to a medical emergency).

The form is used as a worksheet for care provider program staff and surgeons to compile information that would otherwise have been collected during the health evaluation. Once completed, care provider program staff upload the form and supporting documentation into ORR's secure, electronic data record system and send an email notification to ORR staff that the SMR packet is ready for review.

ORR has incorporated changes to the form to streamline the flow of data collection, clarify intent and purpose of the form and fields, improve data quality, and ensure alignment with ORR program policies. The overall estimated time per form has increased by 1 minute and has been adjusted to reflect a decrease by 1 minute for care provider program staff and an increase by 2 minutes for surgeons.

Respondents: Care provider program staff, surgeons.

Annual Burden Estimates

There are currently about 250 programs that use the SMR form. Over the past 2 years, an annual average of 115 SMR forms were submitted across all programs. For each form, a care provider program staff member completes page 1, and a surgeon completes pages 2 and 3.

Estimated Reporting Time for Respondents
Instrument | Respondent | Total number of respondents | Total number of responses per respondent | Average burden hours per response | Total burden hours | Annual burden hours
SMR Form | Care Provider Program Staff | 250 | 1.38 | .07 | 24.15 | 8
| Surgeons | 250 | 1.38 | .17 | 58.65 | 20
Total Annual Burden Estimate |  |  |  |  |  | 28

Estimated Recordkeeping Time
Instrument | Respondent | Total number of respondents | Total number of responses per respondent | Average burden hours per response | Total burden hours | Annual burden hours
SMR Form | Care Provider Program Staff | 250 | 1.38 | .08 | 27.6 | 9

Authority: 6 U.S.C 279: Exhibit 1, part A.2 of the Flores Settlement Agreement (Jenny Lisette Flores, et al., v. Janet Reno, Attorney General of the United States, et al., Case No. CV 85-4544-RJK [C.D. Cal. 1996]).

Mary B. Jones,
ACF/OPRE Certifying Officer.

[FR Doc. 2023-25322 Filed 11-15-23; 8:45 am]

BILLING CODE 4184-45-P